DEPARTMENT OF AGRICULTURE

Animal Plant and Health Inspection Service

9 CFR Parts 54 and 79

[Docket No. 97-093-5]

RIN 0579-AA90

Scrapie in Sheep and Goats; Interstate Movement Restrictions and Indemnity Program

Correction

In rule document 01-20693, beginning on page 43964, in the issue of Tuesday, August 21, 2001, make the following correction:

On page 43964, in the first column, under the heading SUMMARY:, in the last line, “February 18, 2002” should read “February 19, 2002”.

[FR Doc. C1-20693 Filed 8-30-01; 8:45 am]

BILLING CODE 1505-01-D

DEPARTMENT OF AGRICULTURE

Rural Utilities Service

7 CFR Part 1755

RIN 0572-AB41

Telecommunications System Construction Contract and Specifications

Correction

In rule document 01-20120 beginning on page 43310, in the issue of Friday, August 17, 2001, make the following correction:

§ 1755.97 [Corrected]

On page 43314, in the table, under the heading “Date last issued”, in the second line, “9/12/01” should read “9/17/01”.

[FR Doc. C1-20120 Filed 8-30-01; 8:45 am]

BILLING CODE 1505-01-D

DEPARTMENT OF COMMERCE

International Trade Administration

[A-580-829]

Stainless Steel Wire Rod From Korea: Amendment of Final Determination of Sales at Less Than Fair Value Pursuant to Court Decision

Correction

In notice document 01-19779, appearing on page 41550, in the issue of Wednesday, August 8, 2001, make the following correction:

In the first column, under the heading EFFECTIVE DATE:, “ August 7, 2001.” should read “August 8, 2001.”

[FR Doc. C1-19779 Filed 8-30-01; 8:45 am]

BILLING CODE 1505-01-D

DEPARTMENT OF DEFENSE

Proposed Buy American Act Exception for Commercial U.S.-Made End Products

Correction

In notice document 01-19915 beginning on page 41561 in the issue of Wednesday, August 8, 2001, make the following corrections:

1. On page 41561, in the third column, the subject heading should be set forth above.

2. On page 41562, in the first column, in the eighth line, in the SUPPLEMENTARY INFORMATION: section, “supplies in mind” should read “supplies mined”.

3. On the same page, in the second column, in the 27th line, “create” should read “creates”.

[FR Doc. C1-19915 Filed 8-30-01; 8:45 am]

BILLING CODE 1505-01-D

DEPARTMENT OF HEALTH AND HUMAN SERVICES

Public Health Service

National Institute of Environmental Health Sciences (NIEHS); National Toxicology Program (NTP); The Revised Draft Up-and-Down Procedure for Assessing Acute Oral Toxicity: Notice of Availability and Request for Public Comments

Correction

In notice document 01-15770 beginning on page 33550, in the issue of Friday, June 22, 2001, make the following corrections:

1. On page 33550, in the third column, in the fifth and sixth line from the bottom of the first paragraph, under the heading

Availability of Revised Draft UDP Documents

the Web site address “http://iccvam.niehs.nih.gov/methods/updocs/udprpt/udp_ciprop.htm ” should read “ http://iccvam.niehs.nih.gov/methods/udpdocs/udprpt/udp_ciprop.htm”.

2. On page 33551, in the first column, in the fourth line, the Web site address “http://iccvam.niehs.nih.gov/methods/updocs/udprpt/udp_ciprop.htm” should read “http://iccvam.niehs.nih.gov/methods/udpdocs/udprpt/udp_ciprop.htm”.

3. On the same page, in the same column, in the first full paragraph, beginning in the eleventh line, the Web site address “http://iccvam.niehs.nih.gov/methods/udpdoc/udprpt/udp_ciprop.htm ” should read “http://iccvam.niehs.nih.gov/methods/udpdocs/udprpt/udp_ciprop.htm ”.

[FR Doc. C1-15770 Filed 8-30-01; 8:45 am]

BILLING CODE 1505-01-D

RAILROAD RETIREMENT BOARD

Agency Forms Submitted for OMB Review

Correction

In notice document 01-19946 appearing on page 41914, in the issue of Thursday, August 9, 2001, make the following corrections:

In the first column, under the heading Summary of Proposal(s):, “(7) Estimated annual number of responses: 3000.” should read “(7) Estimated annual number of respondents: 30.” and “(8) Total annual responses: 0.” should read “(8) Total annual responses: 3,000.”

[FR Doc. C1-19946 Filed 8-30-01; 8:45 am]

BILLING CODE 1505-01-D

DEPARTMENT OF TRANSPORTATION

Federal Motor Carrier Safety Administration

[Docket No. FMCSA-2000-8210]

Agency Information Collection Activities Under OMB Review: OMB Control No. 2126-0011 (Commercial Driver Licensing and Test Standards)

Correction

In notice document 01-21719 beginning on page 45361, in the issue of Tuesday, August 28, 2001, make the following correction:

On page 45361, in the first column, under the heading DATES:, in the second line, “August 27, 2001.” should read “September 27, 2001.”

[FR Doc. C1-21719 Filed 8-30-01; 8:45 am]

BILLING CODE 1505-01-D

DEPARTMENT OF VETERANS AFFAIRS

38 CFR Part 3

RIN 2900-AK64

Diseases Specific to Radiation-Exposed Veterans

Correction

In proposed rule document 01-19916 beginning on page 41483 in the issue of Wednesday, August 8, 2001, make the following correction:

On page 41483, in the third column, in the first complete paragraph, the third line from the bottom, “No no presumption” should read “no presumption”.

[FR Doc. C1-19916 Filed 8-30-01; 8:45 am]

BILLING CODE 1505-01-D